DEPARTMENT OF COMMERCE

International Trade Administration

[A-570-979]

Crystalline Silicon Photovoltaic Cells, Whether or Not Assembled into Modules, From the People's Republic of China: Notice of Court Decision Not in Harmony With the Results of Antidumping Duty Administrative Review; Notice of Amended Final Results

AGENCY: Enforcement and Compliance, International Trade Administration, Department of Commerce.

SUMMARY: On December 8, 2021, the U.S. Court of International Trade (CIT) issued its final judgment in Canadian Solar International Limited et al. v. United States, Consol. Court No. 17-00173, sustaining the Department of Commerce (Commerce)'s fourth remand results pertaining to the administrative review of the antidumping duty (AD) order on crystalline silicon photovoltaic cells, whether or not assembled into modules (solar cells), from the People's Republic of China (China) covering the period December 1, 2014, through November 30, 2015. Commerce is notifying the public that the CIT's final judgment is not in harmony with the final results of the 2014-2015 AD administrative review of solar cells from China and that Commerce is amending those final results with respect to the dumping margin assigned to the following companies: (1) The collapsed entity comprising Canadian Solar International Limited; Canadian Solar Manufacturing (Changshu), Inc.; Canadian Solar Manufacturing (Luoyang), Inc.; CSI Cells Co., Ltd.; CSI-GCL Solar Manufacturing (YanCheng) Co., Ltd.; and CSI Solar Power (China) Inc. (collectively, Canadian Solar); (2) the collapsed entity comprising Yingli Energy (China) Company Limited; Baoding Tianwei Yingli New Energy Resources Co., Ltd.; Tianjin Yingli New Energy Resources Co., Ltd.; Hengshui Yingli New Energy Resources Co., Ltd.; Lixian Yingli New Energy Resources Co., Ltd.; Baoding Jiasheng Photovoltaic Technology Co., Ltd.; Beijing Tianneng Yingli New Energy Resources Co., Ltd.; Hainan Yingli New Energy Resources Co., Ltd.; and Shenzhen Yingli New Energy Resources Co., Ltd. (collectively, Yingli); and (3) Shanghai BYD Co., Ltd.

DATES: Applicable December 18, 2021.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On June 27, 2017, Commerce published the final results of the 2014-2015 AD administrative review of solar cells from China. In the Final Results, Commerce selected Thailand as the primary surrogate country and relied on Thai import data to value nitrogen that was used in manufacturing solar cells.¹

¹ See Crystalline Silicon Photovoltaic Cells, Whether or Not Assembled Into Modules, from the People's Republic of China: Final Results of Antidumping Duty Administrative Review and Final Determination of No Shipments; 2014-2015, 82 FR 29033 (June 27, 2017) (Final Results), and accompanying Issues and Decision Memorandum at Comment 13.

After correcting a ministerial error in the Final Results (i.e., Commerce inadvertently omitted certain U.S. indirect selling expenses from its calculations), on August 25, 2017, Commerce published the Amended Final Results.²

² See Crystalline Silicon Photovoltaic Cells, Whether or Not Assembled Into Modules, from the People's Republic of China: Amended Final Results of Antidumping Duty Administrative Review; 2014-2015, 82 FR 40560 (August 25, 2017) (Amended Final Results).

Respondents, Canadian Solar, Trina,³ Shanghai BYD Co., Ltd., and Ningbo Qixin Solar Electrical Appliance Co., Ltd. (Ningbo Qixin), and domestic interested party, SolarWorld Americas, Inc., challenged Commerce's Amended Final Results (CIT case numbers 17-00173, 17-00187, 17-00193, and 17-00200). Yingli sought to intervene in CIT case number 17-00197. The CIT consolidated case numbers 17-00173, 17-00187, 17-00193, 17-00197, and 17-00200 into case number 17-00173 in September 2017. On April 16, 2019, the CIT sustained Commerce's Amended Final Results with respect to: (1) The surrogates that it selected to value aluminum frames, nitrogen, polysilicon ingots and blocks, and financial ratios; (2) its decision to include import values with zero import quantities in its surrogate value calculations; and (3) its decision to deny Trina an offset for debt restructuring income. However, the CIT remanded the Amended Final Results to Commerce to reconsider, or further explain: (1) The surrogate that it selected to value solar module glass; (2) its application of an adverse inference in selecting partial facts available for use in calculating Canadian Solar's dumping margin; and (3) its decision to reject Ningbo Qixin's separate rate application.⁴

³ We used “Trina” to refer to the following companies that we treated as a single entity: Changzhou Trina Solar Energy Co., Ltd.; Trina Solar (Changzhou) Science and Technology Co., Ltd.; Yancheng Trina Solar Energy Technology Co., Ltd.; Changzhou Trina Solar Yabang Energy Co., Ltd.; Turpan Trina Solar Energy Co., Ltd.; and Hubei Trina Solar Energy Co., Ltd.

⁴ See Canadian Solar Int'l Ltd. et al. v. United States, 378 F. Supp. 3d 1292 (CIT 2019).

In its first remand redetermination, issued in July 2019, Commerce: (1) Under respectful protest, valued solar module glass using Bulgarian import data, rather than Thai import data; (2) further explained its determination to rely on facts available with an adverse inference in calculating Canadian Solar's dumping margin; and (3) continued to deny Ningbo Qixin a separate rate after reopening the record to permit Ningbo Qixin to establish that it made a shipment of subject merchandise to the United States during the POR (which it failed to establish).⁵ The CIT sustained Commerce's redetermination with respect to the value of solar module glass, and its denial of Ningbo Qixin's request for a separate rate, but remanded to Commerce its partial adverse facts available determination with respect to Canadian Solar for a second time.⁶

⁵ See Results of Remand Redetermination, Canadian Solar International Limited, et al. v. United States, Court No. 17-00173, Slip Op. 19-47 (Court of International Trade April 16, 2019), dated July 15, 2019.

⁶ See Canadian Solar Int'l Ltd. et al. v. United States, 415 F. Supp. 3d 1326 (CIT 2019).

In its second remand redetermination, issued in February 2020, Commerce reexamined its partial adverse facts available determination with respect to Canadian Solar and, under respectful protest, determined not to apply an adverse inference when selecting from among the facts available in calculating a dumping margin for Canadian Solar.⁷ The CIT sustained Commerce's second redetermination.⁸

⁷ See Canadian Solar International Limited, et al. v. United States, Court No. 17-00173, Slip Op. 19-152 (Court of International Trade December 3, 2019) Final Results of Second Redetermination Pursuant to Court Order, dated February 10, 2020.

⁸ See Canadian Solar Int'l Ltd. et al. v. United States, 448 F. Supp. 3d 1333 (CIT 2020).

In June 2020, in SolarWorld, the U.S. Court of Appeals for the Federal Circuit (CAFC) vacated the CIT's judgement sustaining Commerce's use of Thai import data to value nitrogen in the 2013-2014 AD administrative review of solar cells from China and remanded the case for further proceedings consistent with the Court's opinion.⁹ Subsequently, the CIT held that SolarWorld constitutes an intervening change in controlling law, and thus, it vacated its earlier judgment sustaining Commerce's valuation of nitrogen in the 2014-2015 AD administrative review of solar cells from China.¹⁰ The CIT also remanded the nitrogen issue in the 2014-2015 AD administrative review of solar cells from China to Commerce for it to adequately explain why the Thai surrogate value for nitrogen was not aberrational or adopt an alternative surrogate value for nitrogen.

⁹ See SolarWorld Americas, Inc. et al. v. United States, 962 F.3d 1351 (Fed. Cir. 2020) (SolarWorld).

¹⁰ See Canadian Solar Int'l Ltd. et al. v. United States, 471 F. Supp. 3d 1379 (CIT 2020).

In its third remand redetermination, issued in January 2021, Commerce continued to value nitrogen using Thai import data. Specifically, in its third remand redetermination Commerce explained why it did not find the average unit value (AUV) of Thai imports of nitrogen during the period of review (POR) to be aberrational, clarified its practice for evaluating whether an AUV from a surrogate country is aberrational, and addressed the discrepancies between U.S. POR exports of nitrogen to Thailand and Thai POR imports of nitrogen from the United States.¹¹ The CIT remanded the case to Commerce for a fourth time, ordering Commerce to reconsider, or further explain, its use of Thai import data to value nitrogen.¹²

¹¹ See Canadian Solar International Limited, et al. v. United States, Court No. 17-00173, Slip Op. 20-134 (CIT September 14, 2020), dated January 12, 2021.

¹² See Canadian Solar Int'l Limited et al. v. United States, 532 F. Supp. 3d 1273 (CIT 2021).

In its final remand redetermination, issued in September 2021, under respectful protest, Commerce used Mexican import data, rather than Thai import data, to value nitrogen.¹³ The CIT sustained Commerce's final redetermination.¹⁴

¹³ See Canadian Solar International Limited, et al. v. United States, Consol. Court No. 17-00173 (CIT July 28, 2021), dated September 27, 2021.

¹⁴ See Canadian Solar International Limited et al. v. United States, Consol. Court No. 17-00173, Slip Op. 21-166 (CIT Dec. 8, 2021).

Timken Notice

In its decision in Timken,¹⁵ as clarified by Diamond Sawblades,¹⁶ the CAFC held that, pursuant to section 516A(c) and (e) of the Tariff Act of 1930, as amended (the Act), Commerce must publish a notice of a court decision that is not “in harmony” with Commerce's determination and must suspend liquidation of entries pending a “conclusive” court decision. The CIT's December 8, 2021, judgment constitutes a final decision of the CIT that is not in harmony with Commerce's Amended Final Results. Thus, this notice is published in fulfillment of the publication requirements of Timken.

¹⁵ See Timken Co. v. United States, 893 F.2d 337 (Fed. Cir. 1990) (Timken).

¹⁶ See Diamond Sawblades Manufacturers Coalition v. United States, 626 F.3d 1374 (Fed. Cir. 2010) (Diamond Sawblades).

Amended Final Results

Because there is now a final court judgment, Commerce is amending its Final Results and Amended Final Results with respect to Canadian Solar, Yingli and Shanghai BYD Co., Ltd. as follows:

Exporter | Weighted- average dumping margin (percent)
Canadian Solar International Limited; Canadian Solar Manufacturing (Changshu), Inc.; Canadian Solar Manufacturing (Luoyang), Inc.; CSI Cells Co., Ltd.; CSI-GCL Solar Manufacturing (YanCheng) Co., Ltd.; CSI Solar Power (China) Inc | 0.00
Yingli Energy (China) Company Limited; Baoding Tianwei Yingli New Energy Resources Co., Ltd.; Tianjin Yingli New Energy Resources Co., Ltd.; Hengshui Yingli New Energy Resources Co., Ltd.; Lixian Yingli New Energy Resources Co., Ltd.; Baoding Jiasheng Photovoltaic Technology Co., Ltd.; Beijing Tianneng Yingli New Energy Resources Co., Ltd.; Hainan Yingli New Energy Resources Co., Ltd.; Shenzhen Yingli New Energy Resources Co., Ltd | 0.00
Shanghai BYD Co., Ltd | 0.00

Cash Deposit Requirements

Because Canadian Solar, Yingli, and Shanghai BYD Co., Ltd. all have a superseding cash deposit rate, i.e., final results covering these companies have been published in a subsequent administrative review of the AD order on solar cells from China, we will not issue revised cash deposit instructions to U.S. Customs and Border Protection (CBP) in connection with this notice. Thus, this notice will not affect the current cash deposit rate of these companies.

Liquidation of Suspended Entries

At this time, Commerce remains enjoined, by orders of the CIT, from liquidating entries of subject merchandise that was entered, or withdrawn from warehouse, for consumption during the period December 1, 2014, through November 30, 2015 and produced and/or exported by the collapsed entity comprising Canadian Solar International Limited; Canadian Solar Manufacturing (Changshu), Inc.; Canadian Solar Manufacturing (Luoyang), Inc.; CSI Cells Co., Ltd.; CSI-GCL Solar Manufacturing (YanCheng) Co., Ltd.; and CSI Solar Power (China) Inc., or exported by any of the following entities: (1) the collapsed entity comprising Yingli Energy (China) Company Limited; Baoding Tianwei Yingli New Energy Resources Co., Ltd.; Tianjin Yingli New Energy Resources Co., Ltd.; Hengshui Yingli New Energy Resources Co., Ltd.; Lixian Yingli New Energy Resources Co., Ltd.; Baoding Jiasheng Photovoltaic Technology Co., Ltd.; Beijing Tianneng Yingli New Energy Resources Co., Ltd.; Hainan Yingli New Energy Resources Co., Ltd.; and Shenzhen Yingli New Energy Resources Co., Ltd.; (2) Shanghai BYD Co., Ltd.; (3) Ningbo Qixin Solar Electrical Appliance Co., Ltd.; (4) Chint Solar (Zhejiang) Co., Ltd.; (5) ERA Solar Co., Ltd.; (6) ET Solar Energy Limited; (7) Hangzhou Sunny Energy Science & Technology Co., Ltd.; (8) Hengdian Group DMEGC Magnetics Co., Ltd.; (9) JA Solar Technology Yangzhou Co., Ltd.; (10) Jiawei Solarchina (Shenzhen) Co., Ltd.; (11) Jiawei Solarchina Co., Ltd.; (12) JingAo Solar Co., Ltd.; (13) Lightway Green New Energy Co., Ltd.; (14) Ningbo ETDZ Holdings, Ltd.; (15) Risen Energy Co., Ltd.; (16) Shanghai JA Solar Technology Co., Ltd.; (17) Shenzhen Sungold Solar Co., Ltd.; (18) Shenzhen Topray Solar Co., Ltd.; (19) Star Power International Limited; (20) Systemes Versilis, Inc.; (21) Taizhou BD Trade Co., Ltd.; (22) tenKsolar (Shanghai) Co., Ltd.; (23) Toenergy Technology Hangzhou Co., Ltd.; (24) Wuxi Tianran Photovoltaic Co., Ltd.; (25) Zhejiang Era Solar Technology Co., Ltd.; and (26) Zhejiang Sunflower Light Energy Science & Technology Limited Liability Company. These entries will remain enjoined pursuant to the terms of injunctions during the pendency of any appeals process.

In the event the CIT's ruling is not appealed, or, if appealed, upheld by a final and conclusive court decision, Commerce intends to instruct CBP to assess antidumping duties on any unliquidated entries described in the preceding paragraph, in accordance with 19 CFR 351.212(b). We will instruct CBP to assess antidumping duties on all appropriate entries covered by this review when either the respondent's weighted-average dumping margin is not zero or de minimis or the importer-specific ad valorem assessment rate is not zero or de minimis. Where either the respondent's weighted-average dumping margin is zero or de minimis, or an importer-specific assessment rate is de minimis (i.e., less than 0.5 percent), we will instruct CBP to liquidate the appropriate entries without regard to antidumping duties.¹⁷

¹⁷ See 19 CFR 351.106(c)(2).

Notification to Interested Parties

This notice is issued and published in accordance with sections 516A(c) and (e) and 777(i)(1) of the Act.

Dated: December 20, 2021.
Ryan Majerus,
Deputy Assistant Secretary for Policy and Negotiations, Performing the Non-Exclusive Functions and Duties of the Assistant Secretary for Enforcement and Compliance.

[FR Doc. 2021-28071 Filed 12-23-21; 8:45 am]

BILLING CODE 3510-DS-P